DEPARTMENT OF HEALTH AND HUMAN SERVICES

Announcement of Requirements and Registration for healthfinder.gov Mobile App Challenge; Correction

AGENCY: Office of Disease Prevention and Health Promotion, Office of the Assistant Secretary for Health, Office of the Secretary, Department of Health and Human Services.

ACTION: Notice; correction.

SUMMARY: The Office of Disease Prevention and Health Promotion published a document in the Federal Register of December 6, 2012, announcing the requirements and criteria for the healthfinder.gov Mobile App Challenge. The document contained inaccurate wording in one subsection of the terms and conditions.

FOR FURTHER INFORMATION CONTACT: Silje Lier, MPH, Communication Advisor, Office of Disease Prevention and Health Promotion, U.S. Department of Health and Human Services. Email Silje.Lier@hhs.gov; phone 240-453-6113.

Correction

In the Federal Register of December 6, 2012, in FR Doc. 2012-29520, on pages 72864-72865, in the second column, correct section 9 under the “Eligibility Rules” caption to read:

(9) Each applicant retains title and full ownership in and to their submission. Applicant expressly reserves all intellectual property rights not expressly granted under this agreement. Applicants must agree to irrevocably grant to federal government a non-exclusive, royalty free, perpetual, irrevocable, worldwide license and right, with the right to sublicense, under entrant's intellectual property rights, in the event that an entrant wins, to use, reproduce, publicly perform, publicly display, and freely distribute the submission provided by such entrant (with or without any modifications or derivative works thereto), or any portion or feature thereof, for a period of one (1) year following the date that the challenge winner is selected.

Dated: February 6, 2013.
Don Wright,
Deputy Assistant Secretary for Disease Prevention and Health Promotion, Office of Disease Prevention and Health Promotion.

[FR Doc. 2013-03882 Filed 2-20-13; 8:45 am]

BILLING CODE 4150-32-P